COORDINATING COUNCIL ON JUVENILE JUSTICE AND DELINQUENCY PREVENTION

[OJP(OJJDP) Docket No. 1408]

Notice of Meeting

AGENCY: Coordinating Council on Juvenile Justice and Delinquency Prevention.

ACTION: Notice of meeting.

SUMMARY: The Coordinating Council on Juvenile Justice and Delinquency Prevention (Council) is announcing the September 10, 2004, meeting of the Council.

DATES: Friday, September 10, 2004, from 9:30 a.m.-12:30 p.m.

ADDRESSES: The meeting will take place at the Robert F. Kennedy Department of Justice Building (Conference Center), 950 Pennsylvania Avenue, NW., Washington, DC.

FOR FURTHER INFORMATION CONTACT: Timothy Wight, Designated Federal Official for the Coordinating Council on Juvenile Justice and Delinquency Prevention, OJJDP, by telephone at 202-514-2190, or by e-mail at Timothy.Wight@usdoj.gov.

SUPPLEMENTARY INFORMATION: The Coordinating Council on Juvenile Justice and Delinquency Prevention, established pursuant to section 3(2)A of the Federal Advisory Committee Act (5 U.S.C. App. 2), will meet to carry out its advisory functions under Section 206 of the Juvenile Justice and Delinquency Prevention Act of 2002, 42 U.S.C. 5601, et seq. Documents such as meeting announcements, agendas, minutes, and interim and final reports will be available on the Council's Web page at http://www.JuvenileCouncil.gov. (You may also verify the status of the meeting at that Web address.)

The agenda for this meeting will include: (a) Review of past Council actions, (b) discussion of the Final Report of the White House Task Force for Disadvantaged Youth, and (c) discussion and Council recommendations regarding Federal agencies that hold juvenile offenders, nonoffenders, and undocumented juveniles.

Written Comments: Interested parties may submit written comments by September 1, 2004, to Timothy Wight, Designated Federal Official for the Coordinating Council on Juvenile Justice and Delinquency Prevention, OJJDP, at Timothy.Wight@usdoj.gov. The Coordinating Council on Juvenile Justice and Delinquency Prevention expects public statements presented at its meetings will not be repetitive of previously submitted statements. No oral comments will be permitted at this meeting.

For security purposes, members of the public who wish to attend the meeting must pre-register by calling the Juvenile Justice Resource Center at 301-519-6473 (Daryel Dunston) or 301-519-5790 (Karen Boston), no later than September 1, 2004. To register on-line, please go to http://www.JuvenileCouncil.gov/meetings.html. Space is limited.

Note: Two forms of photo identification will be required for admission to the meeting.

Dated: August 12, 2004.
J. Robert Flores,
Vice-Chair, Coordinating Council on Juvenile Justice and Delinquency Prevention.

[FR Doc. 04-18760 Filed 8-16-04; 8:45 am]

BILLING CODE 4410-18-P